ENVIRONMENTAL PROTECTION AGENCY

[EPA-HQ-OW-2016-0686; FRL 9960-12-OW]

Request for Public Comments on Peer Review Candidates for Proposed Modeling Approaches for a Health-Based Benchmark for Lead in Drinking Water

AGENCY: Environmental Protection Agency (EPA).

ACTION: Notice of request for public comment.

SUMMARY: The U.S. Environmental Protection Agency (EPA) requests comments on the candidates being considered as expert peer reviewers for the draft modeling report entitled, “Proposed Modeling Approaches for a Health-Based Benchmark for Lead in Drinking Water” (lead modeling report). EPA is seeking comment and information about the expertise and qualifications of the candidates. See section II of the SUPPLEMENTARY INFORMATION section of this notice for the interim list of candidates.

DATES: Comments on the interim list of potential peer review candidates must be received on or before April 19, 2017.

ADDRESSES: Submit your comments on the interim list of potential peer review candidates to EPA's peer review contractor, ERG, Inc., no later than April 19, 2017 by one of the following methods:

• Email: peerreview@erg.com (subject line: Lead in Drinking Water Peer Review).

• Mail: ERG, Inc., 110 Hartwell Avenue, Lexington, MA 02421, ATTN: Laurie Waite (must arrive by the comment period deadline).

Please be advised that public comments are subject to release under the Freedom of Information Act.

FOR FURTHER INFORMATION CONTACT: Questions concerning the interim list of expert peer reviewers should be directed to ERG, Inc., 110 Hartwell Avenue, Lexington, MA 02421; by email peerreview@erg.com (subject line: Lead in Drinking Water Peer Review); or by phone: (781) 674-7362 (ask for Laurie Waite).

SUPPLEMENTARY INFORMATION:

I. Process of Obtaining Candidates for Consideration

EPA's contractor, ERG, is assembling a panel of scientific experts to evaluate the “Proposed Modeling Approaches for a Health-Based Benchmark for Lead in Drinking Water” report. EPA, through its contractor, is seeking peer reviewers who possess a strong background and demonstrated expertise in one or more of the following areas: (1) Physiologically Based Pharmacokinetic modeling, particularly with regard to lead, (2) environmental lead exposure analyses, particularly with regard to probabilistic modeling. EPA published a request for nominations of peer reviewers in a January 19, 2017, Federal Register notice (82 FR 6546). The nomination period closed on February 21,2017. ERG also conducted an independent search for scientific experts to augment the list of publically-nominated candidates. In total, ERG evaluated 26 candidates that were nominated during the public nomination period or identified independently by ERG.

Screening Process

ERG considered and screened all candidates against the selection criteria, which include the following: (1) Demonstrated expertise through relevant peer reviewed publications; (2) professional accomplishments and recognition by professional societies; (3) demonstrated ability to work constructively and effectively in a committee setting; (4) absence of financial conflicts of interest; (5) no actual conflicts of interest or appearance of lack of impartiality; (6) willingness to commit adequate time for the thorough review of the draft report; and (7) availability to participate in-person in a one-day or two-day peer review meeting in the Washington, DC, metro area, projected to occur in the summer of 2017 (exact date will be published in the Federal Register at least 30 days prior to the external peer review meeting). Following the screening process, the contractor narrowed the list of potential reviewers to 13 candidates. EPA is now soliciting comments on this interim list. EPA requests that the public provide relevant information or documentation on the expertise that the contractor should consider in evaluating these candidates. ERG will consider all comments received in response to this notice in the selection of the final peer review panel, which will collectively provide appropriate expertise spanning the subject matter areas covered by the report and, to the extent feasible, best provide a balance of perspectives. See section II of the SUPPLEMENTARY INFORMATION section of this notice for the interim list of candidates.

Responsibilities of Peer Reviewers

Peer reviewers will be charged with evaluating and preparing written comments on the lead modeling report. ERG will provide reviewers with a summary and compilation of public comments on the report submitted to EPA's docket (ID number EPA-HQ-OW-2016-0686) for consideration. Reviewers will participate in the public meeting expected to be held in the Washington, DC, metro area in the summer of 2017 (exact date to be determined), to discuss the scientific basis supporting these materials. Following the meeting, ERG will provide a report to EPA of the peer reviewer's evaluation of the scientific and technical merit of the lead modeling report and their responses to the charge questions. EPA will make the final expert peer review report available to the public (exact date to be determined). In preparing the final lead modeling report, EPA will consider the expert peer review report as well as the written public comments submitted to the docket.

II. Interim List of Peer Reviewers

ERG is considering the following candidates for the peer review panel. Biosketches are available through the docket at https://www.regulations.gov (Docket ID No. EPA-HQ-OW-2016-0686). After review and consideration of public comments on the interim list of candidates being considered, ERG will select the final peer reviewers from this interim list, who will, collectively, best provide expertise spanning the areas of knowledge and experience described in the Federal Register notice (82 FR 6546) and, to the extent feasible, best provide a balance of perspectives. EPA will announce the peer review panel meeting date, location and observer registration details, along with the final list of peer reviewers selected by ERG, at least 30 days prior to the meeting.

Name of Nominee, Degree, Place of Employment

1. Stuart Batterman, Ph.D., University of Michigan

2. Teresa Bowers, Ph.D., Gradient Corporation

3. Panos Georgopoulos, Ph.D., Rutgers University

4. Philip Goodrum, Ph.D., Integral Consulting, Inc.

5. Bruce Lanphear, Ph.D., Simon Fraser University

6. France Lemieux, MCE, Government (Canada)

7. Anne Loccisano, Ph.D., Exponent, Inc.

8. Allan H. Marcus, Ph.D., Private Consultant

9. Marc A. Nascarella, Ph.D., Massachusetts Department of Public Health

10. Michele Provost, Ph.D., Polytechnique Montreal

11. Barry Ryan, Ph.D., Emory University

12. Ian von Lindern, Ph.D., TerraGraphics International

13. Kathleen Vork, Ph.D., California Office of Environment Health Hazard

Dated: March 7, 2017.
Michael H. Shapiro,
Acting Assistant Administrator, Office of Water.

[FR Doc. 2017-05465 Filed 3-17-17; 8:45 am]

BILLING CODE 6560-50-P